DEPARTMENT OF HOMELAND SECURITY

Coast Guard

33 CFR Part 117

[Docket No. USCG-2022-0015]

Drawbridge Operation Regulation; Grand Canal, Indian Harbour Beach, FL

AGENCY: Coast Guard, DHS.

ACTION: Notice of temporary deviation from regulations; request for comments.

SUMMARY: The Coast Guard has issued a temporary deviation from the operating schedule that governs the Lansing Island Bridge across Grand Canal, mile 0.7 at Indian Harbour Beach, FL. A request was made to the Coast Guard to allow the drawbridge to remain closed to navigation and untended during the overnight hours due to a lack of requested openings. This deviation will test a change to the drawbridge operation schedule to determine whether a permanent change to the schedule is needed. The Coast Guard is seeking comments from the public regarding these temporary changes.

DATES: This deviation is effective from 12:01 a.m. on February 1, 2022 through 11:59 p.m. on July 30, 2022.

Comments and related material must reach the Coast Guard on or before April 1, 2022.

ADDRESSES: You may submit comments identified by docket number USCG-2022-0015 using Federal Decision Making Portal at https://www.regulations.gov.

See the “Public Participation and Request for Comments” portion of the SUPPLEMENTARY INFORMATION section below for instructions on submitting comments.

FOR FURTHER INFORMATION CONTACT: If you have questions on this test deviation, call or email Ms. Jennifer Zercher, Bridge Management Specialist, Seventh Coast Guard District, telephone 305-415-6740, email Jennifer.N.Zercher@uscg.mil.

SUPPLEMENTARY INFORMATION:

I. Background, Purpose and Legal Basis

The Lansing Island Bridge across Grand Canal, mile 0.7, at Indian Harbour Beach, FL is a single-leaf bascule bridge with a 16 foot vertical clearance at mean high water in the closed position. The normal operating schedule for the bridge is set forth in 33 CFR 117.285(a). Navigation on the waterway consists mainly of recreational mariners.

The bridge owner, Lansing Island Homeowners Association, Inc. requested the Coast Guard consider allowing the drawbridge to remain closed to navigation and untended during the overnight hours due to a lack of requested openings. We requested a copy of the bridge logs from January 1, 2021 through November 30, 2021. After reviewing the logs, the Coast Guard found the drawbridge provided three openings between the hours of 10:00 p.m. and 6:00 a.m. Two channels provide alternate access to Grand Canal. Vessels that can pass beneath the bridge without an opening may do so at any time.

Under this test deviation, from 10 p.m. until 6 a.m. daily, the draw need not open for the passage of vessels and will be untended. At all other times the bridge shall operate on its normal schedule.

The Coast Guard will also inform waterway users of the change to the operating schedule via the Local Notice to Mariners so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal Decision Making Portal at https://www.regulations.gov. To do so, go to https://www.regulations.gov, type USCG-2022-0015 in the search box and click “Search.” Next, look for this document in the Search Results column, and click on it. Then click on the Comment option. If your material cannot be submitted using https://www.regulations.gov, contact the person in the FOR FURTHER INFORMATION CONTACT section of this document for alternate instructions.

To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

We accept anonymous comments. Comments we post to https://www.regulations.gov will include any personal information you have provided. For more about privacy and submissions in response to this document, see DHS's eRulemaking System of Records notice (85 FR 14226, March 11, 2020).

Dated: January 25, 2022.
Randall D. Overton,
Director, Bridge Administration, Seventh Coast Guard District.

[FR Doc. 2022-01880 Filed 1-31-22; 8:45 am]

BILLING CODE 9110-04-P